DEPARTMENT OF HEALTH AND HUMAN SERVICES

Administration for Children and Families

Submission for OMB Review; Comment Request

Title: Evaluation of the Improving Child Welfare Outcome through Systems of Care Grant Program.

OMB No.: 0970-0288.

Description: The 1994 Amendments to the Social Security Act (SSA) authorize the U.S. Department of Health and Human Services to review State child and family service programs to ensure conformance with the requirements in titles IV-B and IV-E of SSA. Under the Final Rule, which took effect March 25, 2000, States are assessed for substantial conformity with certain Federal requirements for child-welfare services. The Child and Family Service Reviews (CFSR), administered by the Children's Bureau, are designed to ensure conformity with Federal child-welfare requirements and, ultimately, to help States improve child welfare services and outcomes, specifically safety, permanency and well-being outcomes for child-welfare-involved children and their families. States determined not to have achieved substantial conformity in any of the areas assessed are required to develop and implement Program Improvement Plans (PIP) addressing the areas of nonconformity.

The Systems of Care grant cluster, from which these data are proposed to be collected, is designed to encourage public child-welfare agencies to address the issues identified in their State's CPSR. The data collected from these demonstration sites will allow the Children's Bureau to test whether this approach can help States reach the goals stated in their PIP and explore how child-welfare can benefit from being part of a system of care. Data will be collected via interviews, forms completed by project staff, surveys, focus groups and case-file reviews. Data also will be collected to determine the extent to which the Technical Assistance (TA) provided, brokered or contracted by the TA and Evaluation Center is meeting the needs of the grantees, and how.

Respondents: Systems of Care Project Directors (members of the Systems of Care collaborative may include representatives from mental health, juvenile justice, education, health, among others); child-welfare agency supervisors and caseworkers; partner agency caseworkers; and families who have been involved with the child-welfare system.

Annual Burden Estimates
Instrument | Affected public | Number of respondents | Number of responses per respondent | Average burden hours per response | Total burden hours
Stakeholder Survey | Individuals/Households | 20 | 1 | .5 | 10
| Private Sector | 60 | 1 | .5 | 30
| State/Local/Tribal | 190 | 1 | .5 | 95
Child-Welfare Agency Survey | State/Local/Tribal | 600 | 1 | 1 | 600
Supervisor Interviews | State/Local/Tribal | 90 | 1 | 1 | 90
Stakeholder Interviews | Individuals/Households | 10 | 1 | 1 | 10
| Private Sector | 30 | 1 | 1 | 30
| State/Local/Tribal | 50 | 1 | 1 | 50
Project Director Interviews | State/Local/Tribal | 23 | 1 | 1 | 23
Focus Group with Family Members | Individuals/Households | 102 | 1 | 1.5 | 153
Parent Partner Interviews | State/Local/Tribal | 24 | 1 | 1 | 24
Child-Welfare Agency and Partner agency group interviews | Private Sector State/Local/ Tribal | 80 200 | 1 1 | 1.5 1.5 | 120 300
Community Description Form | State/Local/Tribal | 9 | 1 | 2.5 | 23
Organizational Structure Form for Case Study Sites | State/Local/Tribal | 3 | 1 | 2 | 6
Organizational Structure Form for Non-Case Study Sites | State/Local/Tribal | 20 | 1 | 1 | 20
Collaborative Membership Form | State/Local/Tribal | 23 | 1 | 1.5 | 35
Training and Technical Assistance Quality Assurance Assessment | State/Local/Tribal | 23 | 1 | 1 | 23
Training and Technical | Individuals/Households | 2 | 12 | .25 | 6
| State/Local/Tribal | 8 | 12 | .25 | 24
Estimated Total Annual Burden Hours: |  |  |  |  | 1672

Additional Information:

Copies of the proposed collection may be obtained by writing to the Administration for Children and Families, Office of Administration, Office of Information Services, 370 L'Enfant Promenade, SW., Washington, DC 20447, Attn: ACE Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: August 7, 2008.
Robert Sargis,
Reports Clearance, Officer.

[FR Doc. E8-18788 Filed 8-14-08; 8:45 am]

BILLING CODE 4184-01-M